DEPARTMENT OF COMMERCE

International Trade Administration

[C-580-877, C-489-823]

Welded Line Pipe From the Republic of Korea and the Republic of Turkey: Initiation of Countervailing Duty Investigations

AGENCY: Enforcement and Compliance, International Trade Administration, Department of Commerce.

DATES: Effective Date: November 13, 2014.

FOR FURTHER INFORMATION CONTACT: Rebecca Trainor at (202) 482-4007 or Reza Karamloo at (202) 482-4470 (Republic of Korea); Elizabeth Eastwood at (202) 482-3874 or Dennis McClure at (202) 482-5973 (Republic of Turkey), AD/CVD Operations, Enforcement and Compliance, International Trade Administration, U.S. Department of Commerce, 14th Street and Constitution Avenue NW., Washington, DC 20230.

SUPPLEMENTARY INFORMATION:

The Petitions

On October 16, 2014, the Department of Commerce (the Department) received countervailing duty (CVD) petitions concerning imports of welded line pipe from the Republic of Korea (Korea) and the Republic of Turkey (Turkey) filed in proper form on behalf of American Cast Iron Pipe Company, Energex (a division of JMC Steel Group), Maverick Tube Corporation, Northwest Pipe Company, Stupp Corporation (a division of Stupp Bros., Inc.), Tex-Tube Company, TMK IPSCO, and Welspun Tubular LLC USA (collectively, the petitioners). The CVD petitions were accompanied by two antidumping duty (AD) petitions.¹ The petitioners are domestic producers of welded line pipe.²

¹ See Petitions for the Imposition of Antidumping and Countervailing Duties: Welded API Line Pipe from South Korea and Turkey, dated October 16, 2014 (the Petitions).

² See Volume I of the Petitions, at 2-3.

On October 21, 2014, the Department requested information and clarification for certain areas of the Petitions.³ The petitioners filed responses to these requests on October 24, 2014, and October 29, 2014.⁴ On October 27 and October 31, 2014, we received submissions from United States Steel Corporation (U.S. Steel), a domestic producer of welded line pipe, in support of the Petitions.

³ See Letter from the Department to the petitioners entitled “Re: Petitions for the Imposition of Antidumping and Countervailing Duties on Imports of Welded Line Pipe from the Republic of Korea and the Republic of Turkey: Supplemental Questions,” dated October 21, 2014 (General Issues Supplemental Questionnaire), Letter from the Department to the petitioners entitled “Re: Petition for the Imposition of Countervailing Duties on Imports of Welded Line Pipe from the Republic of Korea: Supplemental Questions,” dated October 21, 2014, and Letter from the Department to the petitioners entitled “Re: Petition for the Imposition of Countervailing Duties on Imports of Welded Line Pipe from the Republic of Turkey: Supplemental Questions,” dated October 21, 2014.

⁴ See “Welded API Line Pipe from Korea and Turkey: Response to Supplemental Questions,” dated October 24, 2014 (General Issues Supplement), “Welded Line Pipe from the Republic of Korea: Response to the Department's Supplemental Questions,” dated October 24, 2014, “Welded API Line Pipe from Turkey: Response to Supplemental Questions,” dated October 24, 2014, and “Welded API Line Pipe from Korea and Turkey: Submission of CSI Letter of Support with 2013 Production and Revised Scope Language,” dated October 29, 2014 (Second General Issues Supplement).

In accordance with section 702(b)(1) of the Tariff Act of 1930, as amended (the Act), the petitioners allege that the Government of Korea (GOK) and the Government of Turkey (GOT) are providing countervailable subsidies (within the meaning of sections 701 and 771(5) of the Act) to imports of welded line pipe from Korea and Turkey, respectively, and that such imports are materially injuring, or threatening material injury to, an industry in the United States. Also, consistent with section 702(b)(1) of the Act, the Petitions are accompanied by information reasonably available to the petitioners supporting their allegations.

The Department finds that the petitioners filed the Petitions on behalf of the domestic industry because the petitioners are interested parties as defined in section 771(9)(C) of the Act. The Department also finds that the petitioners demonstrated sufficient industry support with respect to the initiation of the CVD investigations that the petitioners are requesting.⁵

⁵ See the “Determination of Industry Support for the Petitions” section below.

Periods of Investigation

The period of the investigation for both Korea and Turkey is January 1, 2013, through December 31, 2013.

Scope of the Investigations

The product covered by these investigations is welded line pipe from Korea and Turkey. For a full description of the scope of these investigations, see the “Scope of the Investigations” in Appendix I of this notice.

Comments on Scope of the Investigations

During our review of the Petitions, the Department issued questions to, and received responses from, the petitioners pertaining to the proposed scope to ensure that the scope language in the Petitions would be an accurate reflection of the products for which the domestic industry is seeking relief.⁶

⁶ See General Issues Supplemental Questionnaire; see also General Issues Supplement.

As discussed in the preamble to the Department's regulations,⁷ we are setting aside a period for interested parties to raise issues regarding product coverage (scope). The period for scope comments is intended to provide the Department with ample opportunity to consider all comments and to consult with parties prior to the issuance of the preliminary determination. If scope comments include factual information (see 19 CFR 351.102(b)(21)), all such factual information should be limited to public information. All such comments must be filed by 5:00 p.m. Eastern Standard Time (EST) on November 25, 2014, which is 20 calendar days from the signature date of this notice. Any rebuttal comments, which may include factual information, must be filed by 5:00 p.m. EST on December 5, 2014, which is 10 calendar days after the initial comments.

⁷ See Antidumping Duties; Countervailing Duties; Final rule, 62 FR 27296, 27323 (May 19, 1997).

The Department requests that any factual information the parties consider relevant to the scope of the investigations be submitted during this time period. However, if a party subsequently finds that additional factual information pertaining to the scope of the investigations may be relevant, the party may contact the Department and request permission to submit the additional information. All such comments must be filed on the records of the Korea and Turkey AD and CVD investigations.

Filing Requirements

All submissions to the Department must be filed electronically using Enforcement and Compliance's Antidumping and Countervailing Duty Centralized Electronic Service System (IA ACCESS).⁸ An electronically-filed document must be received successfully in its entirety by the time and date it is due. Documents excepted from the electronic submission requirements must be filed manually (i.e., in paper form) with Enforcement and Compliance's APO/Dockets Unit, Room 1870, U.S. Department of Commerce, 14th Street and Constitution Avenue NW., Washington, DC 20230, and stamped with the date and time of receipt by the applicable deadlines.

⁸ See Antidumping and Countervailing Duty Proceedings: Electronic Filing Procedures; Administrative Protective Order Procedures, 76 FR 39263 (July 6, 2011) for details of the Department's electronic filing requirements, which went into effect on August 5, 2011. Information on help using IA ACCESS can be found at https://iaaccess.trade.gov/help.aspx and a handbook can be found at https://iaaccess.trade.gov/help/Handbook%20on%20Electronic%20Filling%20Procedures.pdf.

Consultations

Pursuant to section 702(b)(4)(A)(i) of the Act, the Department notified representatives of the GOK and the GOT of the receipt of the Petitions. Also, in accordance with section 702(b)(4)(A)(ii) of the Act, the Department provided representatives of the GOK and the GOT the opportunity for consultations with respect to the Petitions.⁹ Consultations were held separately with the GOK and GOT on November 4, 2014.¹⁰ All memoranda are on file electronically via IA ACCESS.¹¹

⁹ See Letters of invitation from the Department to the GOK and the GOT, both dated October 17, 2014.

¹⁰ See Memorandum to the File, “Consultations with Officials from the Government of the Republic of Korea Regarding the Countervailing Duty Petition Concerning Welded Line Pipe,” dated November 5, 2014; see also Memorandum to the File, “Consultations with Officials from the Government of the Republic of Turkey Regarding the Countervailing Duty Petition Concerning Welded Line Pipe,” dated November 4, 2014.

¹¹ See supra note 8 for information pertaining to IA ACCESS.

Determination of Industry Support for the Petitions

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, the Department shall: (i) Poll the industry or rely on other information in order to determine if there is support for the petition, as required by subparagraph (A); or (ii) determine industry support using a statistically valid sampling method to poll the “industry.”

Section 771(4)(A) of the Act defines the “industry” as the producers as a whole of a domestic like product, or those producers whose collective output of a domestic like product constitutes a major proportion of the total domestic production of the product. Thus, to determine whether a petition has the requisite industry support, the statute directs the Department to look to producers and workers who produce the domestic like product. The International Trade Commission (ITC), which is responsible for determining whether “the domestic industry” has been injured, must also determine what constitutes a domestic like product in order to define the industry. While both the Department and the ITC must apply the same statutory definition regarding the domestic like product,¹² they do so for different purposes and pursuant to a separate and distinct authority. In addition, the Department's determination is subject to limitations of time and information. Although this may result in different definitions of the like product, such differences do not render the decision of either agency contrary to law.¹³

¹² See section 771(10) of the Act.

¹³ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations. Based on our analysis of the information submitted on the record, we have determined that welded line pipe, as defined in the scope of the investigations, constitutes a single domestic like product and we have analyzed industry support in terms of that domestic like product.¹⁴

¹⁴ For a discussion of the domestic like product analysis in this case, see Countervailing Duty Investigation Initiation Checklist: Welded Line Pipe from the Republic of Korea (Korea CVD Initiation Checklist) at Attachment II, Analysis of Industry Support for the Antidumping and Countervailing Duty Petitions Covering Welded Line Pipe from the Republic of Korea and the Republic of Turkey (Attachment II); and Countervailing Duty Investigation Initiation Checklist: Welded Line Pipe from the Republic of Turkey (Turkey CVD Initiation Checklist), at Attachment II. These checklists are dated concurrently with this notice and are on file electronically via IA ACCESS. Access to documents filed via IA ACCESS is also available in the Central Records Unit, Room 7046 of the main Department of Commerce building.

In determining whether the petitioners have standing under section 702(c)(4)(A) of the Act, we considered the industry support data contained in the Petitions with reference to the domestic like product as defined in the “Scope of the Investigations,” in Appendix I of this notice. To establish industry support, the petitioners provided their production of the domestic like product in 2013, as well as the production of a company that supports the Petitions, and compared this to the total production of the domestic like product for the entire domestic industry.¹⁵

¹⁵ See General Issues Supplement, at 3-5 and Exhibits 3 and 4; see also Second General Issues Supplement, at Attachment 1.

On October 27, 2014, we received a submission from U.S. Steel, a domestic producer of welded line pipe. In the submission, U.S. Steel states that it supports the AD and CVD petitions on welded line pipe from Korea and Turkey.¹⁶ In an additional submission on October 31, 2014, U.S. Steel provided its 2013 production of the domestic like product.¹⁷

¹⁶ See Letter from U.S. Steel, dated October 27, 2014, at 1-2.

¹⁷ See Letter from U.S. Steel to the Department entitled “Re: Welded Line Pipe from the Republic of Korea and the Republic of Turkey,” dated October 31, 2014.

We have relied upon data that the petitioners and U.S. Steel provided for purposes of measuring industry support.¹⁸

¹⁸ See Korea CVD Initiation Checklist and Turkey CVD Initiation Checklist, at Attachment II.

Based on information provided in the Petitions, supplemental submissions, and other information readily available to the Department, we determine that the petitioners have met the statutory criteria for industry support under section 702(c)(4)(A)(i) of the Act because the domestic producers (or workers) who support the Petitions account for at least 25 percent of the total production of the domestic like product.¹⁹ Based on information provided in the Petitions, supplemental submissions, and submissions from U.S. Steel, the domestic producers (or workers) have met the statutory criteria for industry support under section 702(c)(4)(A)(ii) of the Act because the domestic producers (or workers) who support the Petitions account for more than 50 percent of the production of the domestic like product produced by that portion of the industry expressing support for, or opposition to, the Petitions. Accordingly, the Department determines that the Petitions were filed on behalf of the domestic industry within the meaning of section 702(b)(1) of the Act.²⁰

¹⁹ Id.

²⁰ Id.

The Department finds that the petitioners filed the Petitions on behalf of the domestic industry because they are interested parties as defined in section 771(9)(C) of the Act and they have demonstrated sufficient industry support with respect to the CVD investigations that they are requesting the Department initiate.²¹

²¹ Id.

Injury Test

Because Korea and Turkey are “Subsidies Agreement Countries” within the meaning of section 701(b) of the Act, section 701(a)(2) of the Act applies to these investigations. Accordingly, the ITC must determine whether imports of the subject merchandise from Korea and Turkey materially injure, or threaten material injury to, a U.S. industry.

Allegations and Evidence of Material Injury and Causation

The petitioners allege that imports of the subject merchandise are benefitting from countervailable subsidies and that such imports are causing, or threaten to cause, material injury to the U.S. industry producing the domestic like product. In addition, the petitioners allege that subject imports exceed the negligibility threshold provided for under section 771(24)(A) of the Act.²²

²² See General Issues Supplement, at 6 and Exhibit 7.

The petitioners contend that the industry's injured condition is illustrated by reduced market share, underselling and price depression or suppression, lost sales and revenues, declining shipments, reduced production capacity, and a decline in financial performance.²³ We assessed the allegations and supporting evidence regarding material injury, threat of material injury, and causation, and we determined that these allegations are properly supported by adequate evidence and meet the statutory requirements for initiation.²⁴

²³ See Volume I of the Petitions, at 14-18, 21-27, and Exhibits I-2, I-6, and I-8 through I-10; see also General Issues Supplement, at 6-7 and Exhibits 7 and 8.

²⁴ See Korea CVD Initiation Checklist and Turkey CVD Initiation Checklist, at Attachment III, Analysis of Allegations and Evidence of Material Injury and Causation for the Antidumping and Countervailing Duty Petitions Covering Welded Line Pipe from the Republic of Korea and the Republic of Turkey.

Initiation of Countervailing Duty Investigations

Section 702(b)(1) of the Act requires the Department to initiate a CVD investigation whenever an interested party files a CVD petition on behalf of an industry that: (1) Alleges the elements necessary for an imposition of a duty under section 701(a) of the Act; and (2) is accompanied by information reasonably available to the petitioner supporting the allegations.

In the Petitions, the petitioners allege that producers/exporters of welded line pipe in Korea and Turkey benefited from countervailable subsidies bestowed by the governments of these countries, respectively. The Department has examined the Petitions and finds that they comply with the requirements of section 702(b)(1) of the Act. Therefore, in accordance with section 702(b)(1) of the Act, we are initiating CVD investigations to determine whether manufacturers, producers, or exporters of welded line pipe from Korea and Turkey receive countervailable subsidies from the governments of these countries, respectively.

Korea

Based on our review of the Petition, we find that there is sufficient information to initiate a CVD investigation of 22 of the 23 alleged programs. For a full discussion of the basis for our decision to initiate or not initiate on each program, see Korea CVD Initiation Checklist.

Turkey

Based on our review of the Petition, we find that there is sufficient information to initiate a CVD investigation of 16 of the 18 alleged programs. For a full discussion of the basis for our decision to initiate or not initiate on each program, see Turkey CVD Initiation Checklist.

A public version of the initiation checklist for each investigation is available on IA ACCESS and at http://trade.gov/enforcement/news.asp.

In accordance with section 703(b)(1) of the Act and 19 CFR 351.205(b)(1), unless postponed, we will make our preliminary determinations no later than 65 days after the date of this initiation.

Respondent Selection

The petitioners named 13 companies as producers/exporters of welded line pipe from Korea and 13 companies as producers/exporters of welded line pipe from Turkey.²⁵ Following standard practice in CVD investigations, the Department will, where appropriate, select respondents based on U.S. Customs and Border Protection (CBP) data for U.S. imports of welded line pipe during the period of investigation under the following Harmonized Tariff Schedule of the United States (HTSUS) numbers: 7305.11.10.30, 7305.11.50.00, 7305.12.10.30, 7305.12.50.00, 7305.19.10.30, 7306.19.10.10, 7306.19.10.50, 7306.19.51.10, and 7306.19.51.50. We intend to release CBP data under Administrative Protective Order (APO) to all parties with access to information protected by APO shortly after the announcement of these case initiations. The Department invites comments regarding CBP data and respondent selection within five calendar days of publication of this Federal Register notice. Comments must be filed electronically using IA ACCESS. An electronically-filed document must be received successfully in its entirety by the Department's electronic records system, IA ACCESS, by 5 p.m. Eastern time by the date noted above. We intend to make our decision regarding respondent selection within 20 days of publication of this Federal Register notice. Interested parties must submit applications for disclosure under APO in accordance with 19 CFR 351.305(b). Instructions for filing such applications may be found on the Department's Web site at http://enforcement.trade.gov/apo.

²⁵ See Volume I of the Petitions, at Exhibit I-4.

Distribution of Copies of the Petitions

In accordance with section 702(b)(4)(A)(i) of the Act and 19 CFR 351.202(f), copies of the public version of the Petitions have been provided to the GOK and GOT via IA ACCESS. Because of the particularly large number of producers/exporters identified in the Petitions, the Department considers the service of the public version of the Petitions to the foreign producers/exporters to be satisfied by the provision of the public version of the Petitions to the GOK and GOT, consistent with 19 CFR 351.203(c)(2).

ITC Notification

We have notified the ITC of our initiation, as required by section 702(d) of the Act.

Preliminary Determinations by the ITC

The ITC will preliminarily determine, within 45 days after the date on which the Petitions were filed, whether there is a reasonable indication that imports of welded line pipe from Korea and/or Turkey are materially injuring, or threatening material injury to, a U.S. industry.²⁶ A negative ITC determination for either country will result in the investigation being terminated with respect to that country; ²⁷ otherwise, these investigations will proceed according to statutory and regulatory time limits.

²⁶ See section 703(a) of the Act.

²⁷ Id.

Submission of Factual Information

On April 10, 2013, the Department published Definition of Factual Information and Time Limits for Submission of Factual Information: Final Rule, 78 FR 21246 (April 10, 2013), which modified two regulations related to AD and CVD proceedings: the definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all proceeding segments initiated on or after May 10, 2013, and thus are applicable to these investigations. Interested parties should review the final rule, available at http://enforcement.trade.gov/frn/2013/1304frn/2013-08227.txt, prior to submitting factual information in these investigations.

Revised Extension of Time Limits Regulation

On September 20, 2013, the Department modified its regulation concerning the extension of time limits for submissions in AD and CVD proceedings.²⁸ The modification clarifies that parties may request an extension of time limits before a time limit established under Part 351 expires, or as otherwise specified by the Secretary. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction information filed pursuant to 19 CFR 351.301(c)(3)(iv); (3) comments concerning the selection of a surrogate country and surrogate values and rebuttal; (4) comments concerning CBP data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Interested parties should review Extension of Time Limits; Final Rule, available at http://www.gpo.gov/fdsys/pkg/FR-2013-09-20/html/2013-22853.htm, prior to submitting factual information in these investigations.

²⁸ See Extension of Time Limits; Final Rule, 78 FR 57790 (September 20, 2013).

Certification Requirements

Any party submitting factual information in an AD or CVD proceeding must certify to the accuracy and completeness of that information.²⁹ Parties are hereby reminded that revised certification requirements are in effect for company/government officials, as well as their representatives. Investigations initiated on the basis of petitions filed on or after August 16, 2013, and other segments of any AD or CVD proceedings initiated on or after August 16, 2013, should use the formats for the revised certifications provided at the end of the Final Rule.³⁰ The Department intends to reject factual submissions if the submitting party does not comply with the applicable revised certification requirements.

²⁹ See section 782(b) of the Act.

³⁰ See Certification of Factual Information To Import Administration During Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, the Department published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)).

This notice is issued and published pursuant to sections 702 and 777(i) of the Act.

Dated: November 5, 2014.
Ronald K. Lorentzen,
Acting Assistant Secretary for Enforcement and Compliance.

Appendix I

Scope of the Investigations

The merchandise covered by these investigations is circular welded carbon and alloy steel (other than stainless steel) pipe of a kind used for oil or gas pipelines (welded line pipe), not more than 24 inches in nominal outside diameter, regardless of wall thickness, length, surface finish, end finish, or stenciling. Welded line pipe is normally produced to the American Petroleum Institute (API) specification 5L, but can be produced to comparable foreign specifications, to proprietary grades, or can be non-graded material. All pipe meeting the physical description set forth above, including multiple-stenciled pipe with an API or comparable foreign specification line pipe stencil is covered by the scope of these investigations.

The welded line pipe that is subject to these investigations is currently classifiable in the Harmonized Tariff Schedule of the United States (HTSUS) under subheadings 7305.11.1030, 7305.11.5000, 7305.12.1030, 7305.12.5000, 7305.19.1030, 7305.19.5000, 7306.19.1010, 7306.19.1050, 7306.19.5110, and 7306.19.5150. The subject merchandise may also enter in HTSUS 7305.11.1060 and 7305.12.1060. While the HTSUS subheadings are provided for convenience and customs purposes, the written description of the scope of these investigations is dispositive.

[FR Doc. 2014-26897 Filed 11-12-14; 8:45 am]

BILLING CODE 3510-DS-P